DEPARTMENT OF HEALTH AND HUMAN SERVICES

National Institutes of Health

National Cancer Institute Amended; Notice of Meeting

Notice is hereby given of a change in the meeting of the National Cancer Advisory Board, August 14, 2018, 1:00 p.m. to August 14, 2018, 4:00 p.m., National Cancer Institute Shady Grove, 9609 Medical Center Drive, Conference Room TE406, Rockville, MD 20850 which was published in the Federal Register on August 02, 2018, 83 FR 37820.

The meeting notice is being amended to change the meeting times for the open and closed sessions. The open session will be held from 1:00 p.m. to 3:45 p.m. The closed session will be held from 3:50 p.m. to 4:30 p.m. The meeting is partially closed to the public.

Dated: August 6, 2018.
Melanie J. Pantoja,
Program Analyst, Office of Federal Advisory Committee Policy.

[FR Doc. 2018-17104 Filed 8-9-18; 8:45 am]

BILLING CODE 4140-01-P